DEPARTMENT OF THE INTERIOR

Fish and Wildlife Service

Notice of Receipt of Applications for Permit; Correction

AGENCY: Fish and Wildlife Service, Interior.

ACTION: Notice: Correction.

SUMMARY: We published a notice on October 26, 2000, (65 FR 64230) identifying the population where the polar bear was harvested as Cambridge Bay in PRT-034958. The polar bear was harvested from M'Clintock Channel population.

DATES: We will accept comments on this notice on or before January 18, 2000.

ADDRESSES: Written data or comments should be submitted to the Director, U.S. Fish and Wildlife Service, Division of Management Authority, 4401 North Fairfax Drive, Room 700, Arlington, Virginia 22203 and must be received by the Director within 30 days of the date of this publication.

FOR FURTHER INFORMATION CONTACT: Charlie Chandler (800) 358-2104, Division of Management Authority, U.S. Fish and Wildlife Service.

SUPPLEMENTARY INFORMATION: On October 26, 2000, we published a notice requesting comment on the receipt of an application for a permit from Phil Mancuso to import a polar bear (Ursus maritimus) sport-hunted from the Cambridge Bay population in Canada for personal use. The correct application request is for a bear harvested from the M'Clintock Channel population.

Dated: December 20, 2000.
Anna Barry,
Branch of Permits, Division of Management Authority.

[FR Doc. 00-32938 Filed 12-26-00; 8:45 am]

BILLING CODE 4310-55-M